SECURITIES AND EXCHANGE COMMISSION

Submission for OMB Review; Comment Request

Upon Written Request, Copies Available From: Securities and Exchange Commission, Office of Filings and Information Services, Washington, DC 20549

Extension:

Form 12b-25; SEC File No. 270-71; OMB Control No. 3235-0058

Notice is hereby given that, pursuant to the Paperwork Reduction Act of 1995 (44 U.S.C. 3501 et seq.) the Securities and Exchange Commission (“Commission”) has submitted to the Office of Management and Budget the request for extension of the previously approved collection of information discussed below.

The purpose of Form 12b-25 under the Securities Exchange Act of 1934 is to provide notice to the Commission and the marketplace that a public company will be unable to timely file a required periodic report. If all filing conditions are met, the company is granted an automatic filing extension. The information required is filed on occasion and is mandatory. All information is provided to the public for review. Publicly held companies file Form 12b-25. Approximately 7,799 issuers file Form 12b-25 and it takes approximately 2.5 hours per response for a total of 19,498 burden hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503; or an e-mail to David_Rostker@omb.eop.gov; and (ii) R. Corey Booth, Director/Chief Information Officer, Office of Information Technology, Securities and Exchange Commission, 100 F Street, NE., Washington, DC 20549. Comments must be submitted to OMB within 30 days of this notice.

Dated: February 6, 2006
J. Lynn Taylor,
Assistant Secretary.

[FR Doc. E6-2099 Filed 2-14-06; 8:45 am]

BILLING CODE 8010-01-P